FEDERAL COMMUNICATIONS COMMISSION

[AU Docket No. 12-25; DA 12-355]

Mobility Fund Phase I Auction GIS Data of Potentially Eligible Census Blocks

AGENCY: Federal Communications Commission.

ACTION: Notice.

SUMMARY: In this document, the Commission's Wireless Telecommunications and Wireline Competition Bureaus (the “Bureaus”) announce the availability of geographic information system (GIS) data for the census blocks potentially eligible for Mobility Fund Phase I support to be offered in Auction 901. This data does not update or replace the list of potentially eligible blocks. Rather, it provides the same data in additional formats and thus just supplements the previously-released data files and interactive map. The Bureaus are taking this step to make the data accessible to more people and to make it easier to use for individual analysis.

FOR FURTHER INFORMATION CONTACT: Lisa Stover of the Auctions and Spectrum Access Division at (717) 338-2868. To request materials in accessible formats (Braille, large print, electronic files, audio format) for people with disabilities, send an email to fcc504@fcc.gov or call the Consumer and Governmental Affairs Bureau at (202) 418-0530 or (202) 418-0432 (TTY).

SUPPLEMENTARY INFORMATION: This is a summary of the Mobility Fund Phase I Auction GIS Data for Potentially Eligible Census Blocks Public Notice (Public Notice) released on March 8, 2012. The Public Notice and related Commission documents may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 12-121. The Public Notice and related documents also are available on the Internet at the Commission's Web site: http://wireless.fcc.gov/auctions/901/or by using the search function for AU Docket No. 12-25 on the Commission's Electronic Comment Filing System (ECFS) Web page at http://www.fcc.gov/cgb/ecfs/.

1. In the Auction 901 Comment Public Notice, the Bureaus concluded that they would identify census blocks eligible for the Mobility Fund Phase I support to be offered in Auction 901 based on an analysis of the most recent available American Roamer data, from January 2012. A summary of the Auction 901 Comment Public Notice was published in the Federal Register at 77 Fed. Reg. 7152 (Feb. 10, 2012). With the Auction 901 Comment Public Notice, the Bureaus provided, at paragraphs 15, and 18-19, a preliminary list of such blocks using older American Roamer data and stated that they would provide an updated list of potentially eligible census blocks and related updated information upon completion of their analysis of the January 2012 American Roamer data. With the Auction 901 Updated Potentially Eligible Blocks Public Notice, (77 FR 9655, February 17, 2012), the Bureaus provided the updated list of potentially eligible blocks based on January 2012 American Roamer data in electronic format as “Attachment A” files.

2. Concurrent with the release of Auction 901 Updated Potentially Eligible Blocks Public Notice, the Bureaus announced the availability of a map of the updated potentially eligible blocks. The map is an interactive visual representation of data from the updated Attachment A files. The Attachment A files contain more information and generally more detail than is displayed on the map. The map is available at http://wireless.fcc.gov/auctions/901/and at http://www.fcc.gov/maps/.

3. The data formats the Bureaus make available are additional formats of the data as shown in the interactive map. These formats, which are available at http://wireless.fcc.gov/auctions/901/, are the following:

• Downloadable shapefile

• Web mapping service

• MapBox map tiles

4. The shapefile format is actually four individual files (.dbf, .shp, .shx, and .prj) all with the same prefix. That information is available at: “Esri Shapefile Technical Description,” http://www.esri.com/library/whitepapers/pdfs/shapefile.pdf. This format is generally recognized as a standard transfer file for GIS data. The shapefile is an accepted transfer in just about every GIS software package.

5. Web mapping service (WMS) is an Open Geospatial Consortium standard for delivering geospatial data over the web. That information is available at http://www.opengeospatial.org/standards. The WMS data service can be viewed in two ways. First, the data can be viewed by using the URL. Second, most GIS software allows you to add this service as a layer to your session or project.

6. MapBox map tiles are cached map tiles of the data. With this open source software approach, these image tiles can be joined with other MapBox layers to make new maps. This information is available at http://mapbox.com/.

7. For additional information about Auction 901, including an overview of requirements to participate in the auction and proposals for auction procedures, you should consult the Auction 901 Comment Public Notice. As set forth in that public notice, comments were due February 24, and reply comments were due March 9, 2012. As set forth in “Mobility Fund Phase I Auction; Limited Extension of Deadlines for Comments and Reply Comments on Census Block Eligibility Challenges,” comments and reply comments on census block eligibility challenges are due March 16, 2012, and March 26, 2012, respectively. Public notices and additional information about Auction 901 may be found at http://wireless.fcc.gov/auctions/901/.

Federal Communications Commission.
Gary Michaels,
Deputy Chief, Auctions and Spectrum Access Division, WTB.

[FR Doc. 2012-6316 Filed 3-14-12; 8:45 am]

BILLING CODE P